DEPARTMENT OF TRANSPORTATION

Federal Aviation Administration

14 CFR Part 39

[Docket No. FAA-2004-19202; Directorate Identifier 2004-NM-95-AD; Amendment 39-13989; AD 2005-05-01]

RIN 2120-AA64

Airworthiness Directives; Boeing Model 757 Series Airplanes

AGENCY: Federal Aviation Administration (FAA), Department of Transportation (DOT).

ACTION: Final rule.

SUMMARY: The FAA is adopting a new airworthiness directive (AD) for certain Boeing Model 757 series airplanes. This AD requires identification of the part number for the cable assembly for the lower anti-collision light, and related investigative and corrective actions if necessary. This AD is prompted by a report of damage caused by an electrical arc in a connector on the cable assembly for the lower anti-collision light. We are issuing this AD to prevent an electrical arc in the cable assembly for the lower anti-collision light, which could result in a fire in a flammable leakage zone of the airplane.

DATES: This AD becomes effective April 6, 2005.

The incorporation by reference of certain publications listed in the AD is approved by the Director of the Federal Register as of April 6, 2005.

ADDRESSES: For service information identified in this AD, contact Boeing Commercial Airplanes, P.O. Box 3707, Seattle, Washington 98124-2207. You can examine this information at the National Archives and Records Administration (NARA). For information on the availability of this material at NARA, call (202) 741-6030, or go to: http://www.archives.gov/federal_register/code_of_federal_regulations/ibr_locations.html.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-19202; the directorate identifier for this docket is 2004-NM-95-AD.

FOR FURTHER INFORMATION CONTACT: Marcia Smith, Aerospace Engineer, Cabin Safety and Environmental Systems Branch, ANM-150S, FAA, Seattle Aircraft Certification Office, 1601 Lind Avenue, SW., Renton, Washington 98055-4056; telephone (425) 917-6484; fax (425) 917-6590.

SUPPLEMENTARY INFORMATION: The FAA proposed to amend 14 CFR Part 39 with an AD for certain Boeing Model 757 series airplanes. That action, published in the Federal Register on September 29, 2004 (69 FR 58107), proposed to require identification of the part number for the cable assembly for the lower anti-collision light, and related investigative and corrective actions if necessary.

Comments

We provided the public the opportunity to participate in the development of this AD. We have considered the comment that has been submitted on the proposed AD.

Request for an Additional Method of Corrective Action

The commenter states that potting and/or sealing the backshells of the connectors on the existing cable, to preclude liquid contamination, could provide an equivalent level of safety. We infer that the commenter is requesting that we revise the proposed AD to include potting and/or sealing the backshells of the connectors on the existing cable as an additional method for correcting the unsafe condition.

We do not agree. Due to the variety of potting material and methodologies available, we would need to review each operator's proposed potting material and methodology on a case-by-case basis. Operators may apply for an alternative method of compliance under the provisions of paragraph (i) of this AD. We have not made any changes to this AD regarding this issue.

Clarification of Applicability of Paragraph (g)

We have revised paragraph (g) of this AD to clarify that only airplanes having a cable assembly with a certain Boeing or Grimes part number, or airplanes on which the part number of the cable assembly cannot be positively identified, are required to accomplish the actions specified in paragraph (g).

Conclusion

We have carefully reviewed the available data, including the comment that has been submitted, and determined that air safety and the public interest require adopting the AD with the changes described previously. We have determined that these changes will neither increase the economic burden on any operator nor increase the scope of the AD.

Costs of Compliance

This AD affects about 974 airplanes worldwide, and 650 airplanes of U.S. registry. The following table provides the estimated costs for U.S. operators to comply with this AD.

Estimated Costs
Action | Work hours | Average labor rate per hour | Parts | Cost per airplane | Number of U.S.-registered airplanes | Fleet cost
Inspection/Records Review | 1 | $65 | None | $65 | 650 | $42,250

Authority for this Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-05-01 Boeing: Amendment 39-13989. Docket No. FAA-2004-19202; Directorate Identifier 2004-NM-95-AD.

Effective Date

(a) This AD becomes effective April 6, 2005.

Affected ADs

(b) None.

Applicability

(c) This AD applies to Boeing Model 757-200, -200CB, and -200PF series airplanes identified in Boeing Alert Service Bulletin 757-33A0048, dated March 28, 2002; and Boeing Model 757-300 series airplanes identified in Boeing Alert Service Bulletin 757-33A0049, dated March 28, 2002; certificated in any category.

Unsafe Condition

(d) This AD was prompted by a report of damage caused by an electrical arc in a connector on the cable assembly for the lower anti-collision light. We are issuing this AD to prevent an electrical arc in the cable assembly for the lower anti-collision light, which could result in a fire in a flammable leakage zone of the airplane.

Compliance

(e) You are responsible for having the actions required by this AD performed within the compliance times specified, unless the actions have already been done.

Identification of Cable Assembly Part Number (P/N)

(f) Within 60 months after the effective date of this AD: Do an inspection or a review of airplane maintenance records to identify the P/N of the cable assembly for the lower anti-collision light. If Boeing P/N S283T012-15 or Grimes P/N 60-3414-9 is identified, or if the part number of the cable assembly cannot be positively identified, do the related investigative and corrective actions required by paragraph (g) of this AD.

Related Investigative and Corrective Actions

(g) For airplanes having Boeing P/N S283T012-15 or Grimes P/N 60-3414-9, or airplanes on which the P/N of the cable assembly cannot be positively identified: Within 60 months after the effective date of this AD, replace the cable assembly for the lower anti-collision light with a new, improved cable assembly, or modify the existing cable assembly; and do the related investigative actions; in accordance with the Accomplishment Instructions of Boeing Alert Service Bulletin 757-33A0048 (for Model 757-200, -200CB, and -200PF series airplanes); or 757-33A0049 (for Model 757-300 series airplanes); both dated March 28, 2002; as applicable.

Parts Installation

(h) As of the effective date of this AD, no person may install a cable assembly, Boeing P/N S283T012-15 or Grimes P/N 60-3414-9, in a flammable leakage zone on any airplane.

Alternative Methods of Compliance (AMOCs)

(i) The Manager, Seattle Aircraft Certification Office, FAA, has the authority to approve AMOCs for this AD, if requested in accordance with the procedures found in 14 CFR 39.19.

Material Incorporated by Reference

(j) You must use the service information that is specified in Table 1 of this AD to perform the actions that are required by this AD, as applicable, unless the AD specifies otherwise. The Director of the Federal Register approves the incorporation by reference of those documents in accordance with 5 U.S.C. 552(a) and 1 CFR part 51. For copies of the service information, contact Boeing Commercial Airplanes, P.O. Box 3707, Seattle, Washington 98124-2207. For information on the availability of this material at the National Archives and Records Administration (NARA), call (202) 741-6030, or go to http://www.archives.gov/federal_register/code_of_federal_regulations/ibr_locations.html. You may view the AD docket at the Docket Management Facility, U.S. Department of Transportation, 400 Seventh Street SW., room PL-401, Nassif Building, Washington, DC.

Table 1.—Material Incorporated by Reference
Boeing alert service bulletin | Revision level | Date
757-33A0048 | Original | March 28, 2002.
757-33A0049 | Original | March 28, 2002.

Issued in Renton, Washington, on February 16, 2005.
Ali Bahrami,
Manager, Transport Airplane Directorate, Aircraft Certification Service.

[FR Doc. 05-3784 Filed 3-1-05; 8:45 am]

BILLING CODE 4910-13-P